DEPARTMENT OF EDUCATION

Office of Postsecondary Education; Correction

ACTION: Correction; Fund for the Improvement of Postsecondary Education—Special Focus Competition: European Community-United States of America Cooperation Program in Higher Education and Vocational Education and Training.

SUMMARY: We correct the dates listed in the sections entitled DATES and IV. Application and Submission Information, 3. Submission Dates and Times, as published in the Federal Register on December 30, 2003 (68 FR 75221).

SUPPLEMENTARY INFORMATION: On December 30, 2003, we published a notice in the Federal Register inviting applications for the Fund for the Improvement of Postsecondary Education—Special Focus Competition: European Community-United States of America Cooperation Program in Higher Education and Vocational Education and Training Program. The dates listed in the sections entitled DATES and IV. Application and Submission Information, 3. Submission Dates and Times are corrected to read as follows.

Applications Available: January 23, 2004.

Deadline for Transmittal of Applications: April 23, 2004.

Deadline for Intergovernmental Review: June 16, 2004.

FOR FURTHER INFORMATION CONTACT: Beverly Baker, Fund for the Improvement of Postsecondary Education, U.S. Department of Education, 1990 K Street, NW., suite 6140, Washington, DC 20006-8544. Telephone: (202) 502-7503 or by e-mail: Beverly.Baker@ed.gov.

If you use a telecommunications device for the deaf (TDD), you may call the Federal Information Relay Service (FIRS) at 1-800-877-8339.

Individuals with disabilities may obtain this document in an alternative format, (e.g. Braille, large print, audiotape, or computer diskette) on request to the contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1138-1138d.

Dated: January 16, 2004.
Sally L. Stroup,
Assistant Secretary, Office of Postsecondary Education.

[FR Doc. 04-1302 Filed 1-16-04; 10:59 am]

BILLING CODE 4000-01-P